DEPARTMENT OF TRANSPORTATION

Federal Railroad Administration

Petition for Waiver of Compliance

In accordance with Part 211 of Title 49 Code of Federal Regulations (CFR), notice is hereby given that the Federal Railroad Administration (FRA) received a request for a waiver of compliance from certain requirements of its safety standards. The individual petition is described below, including the party seeking relief, the regulatory provisions involved, the nature of the relief being requested, and the petitioner's arguments in favor of relief.

Kansas City Southern Railway Company

[Docket Number FRA-2007-28700]

Kansas City Southern Railway Company (KCS) seeks a waiver of compliance from certain requirements of 49 CFR Part 232, Brake System Safety Standards for Freight and Other Non-Passenger Trains and Equipment: End-of Train Devices; and 49 CFR Part 215, Railroad Freight Car Safety Standards, for freight cars received in interchange at Laredo, Texas (International Bridge), from Kansas City Southern de Mexico (KCSM). Specifically, KCS seeks a waiver to postpone performing pre-departure inspections and Class I brake tests until the trains move from the border crossing to KCS's Laredo Yard (a distance of approximately 9 miles).

According to the petitioner, all required inspections will be performed at the rail yard rather than at the International Bridge interchange point. KCS proposes to inspect all cars received in interchange from KCSM and perform all regulatory brake tests at Laredo Yard prior to the train's further movement in the United States. Before departing the International Bridge border crossing, KCS will perform a Class III brake test-trainline continuity inspection in accordance with 49 CFR 232.211 and at a minimum, inspect the lead locomotive to verify that the headlight, horn, and bell function correctly. The current KCS timetable identifies the method of operation over this portion of railroad (Milepost 0.1 to Milepost 10.0) as “Yard Limits,” therefore, train movement will be made at “restricted speed” as required by rule. KCS will also ensure compliance with rear-end marking device regulations.

Interested parties are invited to participate in these proceedings by submitting written views, data, or comments. FRA does not anticipate scheduling a public hearing in connection with these proceedings since the facts do not appear to warrant a hearing. If any interested party desires an opportunity for oral comment, they should notify FRA in writing before the end of the comment period and specify the basis for their request.

All communications concerning these proceedings should identify the appropriate docket number (FRA-2007-28700), and must be submitted to Docket Clerk, DOT Docket Management Facility, 1200 New Jersey Ave., SE., West Building Ground Floor, Room W12-140, Washington, DC 20590.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The Statement may also be found at http://dms.dot.gov.

Issued in Washington, DC on July 30, 2007.
Grady C. Cothen, Jr.,
Deputy Associate Administrator for Safety Standards and Program Development.

[FR Doc. E7-15150 Filed 8-2-07; 8:45 am]

BILLING CODE 4910-06-P